DEPARTMENT OF JUSTICE

Notice of Lodging of Consent Decree Under the Comprehensive Environmental Response, Compensation and Liability ACT

In accordance with Department of Justice policy, notice is hereby given that on June 26, 2006, a proposed consent decree (“Consent Decree”) in United States v. Glidden Company, et al., Civil Action No. 06-C-0718, was lodged with the United States District Court for the Eastern District of Wisconsin.

The Consent Decree would resolve claims for (i) unreimbursed past response costs incurred by the United States related to the removal action at the Marina Cliffs/Northwestern Barrel Superfund Site (“Site”) in South Milwaukee, Wisconsin; and (ii) penalties for failure to comply with Environmental Protection Agency orders related to the Site. Under the Consent Decree, the three defendants named in the United States' complaint would pay a total of $612,000 in past costs and penalties. The Glidden Company agreed to reimburse the United States $135,000 for past response costs and pay a $15,000 penalty. Chemcentral Corporation agreed to reimburse the United States $220,000 for past response costs and pay a $25,000 civil penalty. Sequa Corporation agreed to reimburse the United States $197,000 for past response costs and pay a $20,000 civil penalty.

The Department of Justice will receive for a period of thirty (30) days from the date of this publication comments relating to the consent Decree. Comments should be addressed to the Assistant Attorney General of the Environment and Natural Resources Division, Department of Justice, P.O. Box No. 7611 Washington, DC 20044-7611, and should refer to United States v. Glidden Company, et al., Civil Action No. 06-C-0718, D.J. Ref. 90-11-3-1485/3.

The Consent Decree may be examined at the Office of the United States, Attorney, 530 Federal Building, 517 East Wisconsin Avenue, Milwaukee, Wisconsin 53202, and at U.S. EPA Region 5, 77 W. Jackson Blvd., Chicago, IL 60604-4590. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $30.25 (121 pages at 25 cents per page reproduction cost) payable to the U.S. Treasury. For a copy of the Consent Decree alone, without appendices, please enclose a check in the amount of $5.25 (21 pages at 25 cents per page reproduction cost) payable to the U.S. Treasury.

William D. Brighton,
Assistant Chief, Environmental Enforcement Section, Environment and Natural Resources Division.

[FR Doc. 06-6157 Filed 7-11-06; 8:45 am]

BILLING CODE 4410-15-M